DEPARTMENT OF ENERGY

Hydrogen and Fuel Cell Technical Advisory Committee (HTAC); Notice of Open Meeting

AGENCY: Office of Energy Efficiency and Renewable Energy, Department of Energy.

ACTION: Notice of open meeting.

SUMMARY: This notice announces a meeting of the Hydrogen and Fuel Cell Technical Advisory Committee (HTAC). The Federal Advisory Committee Act, Public Law 92-463, 86 Stat. 770, requires that agencies publish notice of an advisory committee meeting in the Federal Register.

DATES: Wednesday, May 9, 2012, 9 a.m.-5:30 p.m.; and Thursday, May 10, 2012, 9 a.m.-2 p.m.

ADDRESSES: Radisson Reagan Airport, 2020 Jefferson Davis Highway, Arlington, VA 22202.

FOR FURTHER INFORMATION CONTACT: email to HTAC@nrel.gov or at the mailing address: Jason Marcinkoski, Designated Federal Officer, U.S. Department of Energy, 1000 Independence Avenue SW., Washington, DC 20585.

SUPPLEMENTARY INFORMATION: Purpose of the Committee: The Hydrogen and Fuel Cell Technical Advisory Committee (HTAC) was established under Section 807 of the Energy Policy Act of 2005 (EPACT), Public Law 109-58; 119 Stat. 849, to provide advice and recommendations to the Secretary of Energy on the program and activities authorized by Title VIII of EPACT.

Tentative Agenda: (Subject to change; updates will be posted on http://hydrogen.energy.gov and copies of the final agenda will be available the date of the meeting.)

• Public Comment

• Hydrogen as an Enabler for Renewable Energy

• Industry and Entrepreneurial Presentations

• Hydrogen Codes and Standards

• Indiana's Hydrogen and Fuel Cell Initiatives

• Working Group Updates

Public Participation: In keeping with procedures, members of the public are welcome to observe the business of the meeting of HTAC and to make oral statements during the specified period for public comment. The public comment period will take place between 9 a.m. and 9:45 a.m. on May 9, 2012. To attend the meeting and/or to make oral statements regarding any of the items on the agenda, email HTAC@nrel.gov at least 5 business days before the meeting. Please indicate if you will be attending the meeting, whether you want to make an oral statement, and what organization you represent (if appropriate). Members of the public will be heard in the order in which they sign up for the public comment period. Oral comments should be limited to two minutes in length. Reasonable provision will be made to include the scheduled oral statements on the agenda. The Chair of the committee will make every effort to hear the views of all interested parties and to facilitate the orderly conduct of business. If you would like to file a written statement with the committee, you may do so either by submitting a hard copy at the meeting or by submitting an electronic copy to HTAC@nrel.gov.

Minutes: The minutes of the meeting will be available for public review at http://hydrogen.energy.gov.

Issued at Washington, DC, on March 22, 2012.
LaTanya R. Butler,
Acting Deputy Committee Management Officer.

[FR Doc. 2012-7315 Filed 3-26-12; 8:45 am]

BILLING CODE 6450-01-P